DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Basic Requirements for Special Exemption Permits and Authorizations to Take, Import, and Export Marine Mammals, Threatened and Endangered Species, and for Maintaining a Captive Marine Mammal Inventory Under the Marine Mammal Protection, the Fur Seal, and the Endangered Species Acts.

OMB Control Number: 0648-0084.

Form Number(s): None.

Type of Request: Regular (revision and extension of a currently approved information collection).

Number of Respondents: 536.

Average Hours per Response: Scientific research permit applications, 50 hours; public display permit applications, 30 hours; photography permit applications, 10 hours; General Authorization applications, 10 hours; major permit modification requests, 35 hours; minor permit modification requests, 3 hours; scientific research permit reports, 12 hours; public display permit reports, 2 hours; photography permit reports, 2 hours; General Authorization reports, 8 hours; public display inventory reporting, 2 hours; and record keeping, 2 hours per permit or authorization type (including permits for scientific research, public display, photography, General Authorization; and retention or transfer of rehabilitated animals).

Burden Hours: 7,265.

Needs and Uses: This request is for a revision and extension of a currently approved information collection.

The Marine Mammal Protection Act (16 U.S.C. 1361 et seq.; MMPA), Fur Seal Act (16 U.S.C. 1151 et seq.; FSA), and Endangered Species Act (16 U.S.C. 1531 et seq.; ESA) prohibit certain activities affecting marine mammals and endangered and threatened species, with exceptions. Pursuant to section 104 of the MMPA and Section 10(a)(1)(A) of the ESA, special exception permits may be obtained for scientific research and enhancing the survival or recovery of a species or stock of marine mammals or threatened or endangered species. Section 104 of the MMPA also includes permits for commercial and educational photography of marine mammals; import and capture of marine mammals for public display; and, Letters of Confirmation under the General Authorization for scientific research that involves minimal disturbance to marine mammals. The regulations implementing permits and reporting requirements under the MMPA and FSA are at 50 CFR part 216; the regulations for permit requirements under the ESA are at 50 CFR part 222. The required information in this collection is used to make the determinations required by the MMPA, ESA and their implementing regulations prior to issuing a permit; to establish appropriate permit conditions; and to evaluate the impacts of the proposed activity on protected species. Inventory reporting pertaining to marine mammals in public display facilities is required by the MMPA.

This information collection applies to certain protected species for which NMFS is responsible, including cetaceans (whales, dolphins and porpoises), pinnipeds (seals and sea lions), sawfish (largetooth and smalltooth), sea turtles (in water), and sturgeon (Atlantic and shortnose). The information collection may be used for future listed species.

The currently approved application and reporting requirements will be revised to (1) create separate sections for marine mammals versus non-mammal species where doing so will result in less burden to the applicant (e.g., for scientific methods); (2) clarify to applicants why the information is required and what level of detail is needed for our analyses; (3) create `enhanced help' features (e.g., pop-up windows) in the online application system, Authorizations and Permits for Protected Species (APPS; https://apps.nmfs.noaa.gov/) to make the instructions more accessible; (4) create a streamlined application and online module in APPS for scientific research permits involving only import, export, or receipt of biological samples (i.e., where no animals in the wild are affected); (5) make photography permit applications accessible via APPS.

Affected Public: Individuals or households; business or other for-profit organizations; not-for-profit institutions; state, local and tribal government.

Frequency: Annually and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Sarah Brabson,
NOAA PRA Clearance Officer.

[FR Doc. 2016-19681 Filed 8-17-16; 8:45 am]

BILLING CODE 3510-22-P